DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 16, 2010. Address written comments to Statutory Import Programs Staff, Room 3720, U.S. Department of Commerce, Washington, DC 20230. Applications may be examined between 8:30 a.m. and 5 p.m. at the U.S. Department of Commerce in Room 3720.

Docket Number: 09-069. Applicant: University of Pittsburgh, 4200 Fifth Ave., Pittsburgh, PA 15260. Instrument: Electron Microscope. Manufacturer: JEOL, Ltd., Japan. Intended Use: This instrument will be used to conduct research, focusing on analyzing ultrastructurally the plasticity of the brain and auditory pathway, in particular, different models of hearing loss. This instrument provides the required resolution for such analysis. Justification for Duty-Free Entry: No instruments of same general category are manufactured in the United States. Application accepted by Commissioner of Customs: December 28, 2009.

Docket Number: 09-070. Applicant: Haverford College, 370 Lancaster Ave., Haverford, PA 19041. Instrument: JEM-1400 Electron Microscope. Manufacturer: JEOL Ltd., Japan. Intended Use: The instrument will be used for the ultrastructural study of prokaryotic and eukaryotic cell structure, the assembly of peptides and proteins into filaments and other geometries, the analysis of porphyrin and other chemical polymers, and other applications in cell biology, materials science and nanotechnology. Justification for Duty-Free Entry: There are no domestic manufacturers of this type of electron microscope. Application accepted by Commissioner of Customs: December 30, 2009.

Dated: January 19, 2010.
Christopher Cassel,
Director, IA Subsidies Enforcement Office.

[FR Doc. 2010-1339 Filed 1-22-10; 8:45 am]

BILLING CODE 3510-DS-P